DEPARTMENT OF ENERGY

Federal Energy Regulatory Commission

[Project Nos. 597-025 & 15372-000]

PacifiCorp; Notice of Reasonable Period of Time for Water Quality Certification Application

On August 5, 2025, the Utah Department of Environmental Quality—Division of Water Quality (Utah DWQ) submitted to the Federal Energy Regulatory Commission (Commission) notice that it received a request for a Clean Water Act Section 401(a)(1) water quality certification as defined in 40 CFR 121.5, from PacifiCorp, in conjunction with the above captioned project, on June 26, 2025. Pursuant to the Commission's regulations,¹ we hereby notify the Utah DWQ of the following:

¹ 18 CFR 4.34(b)(5)(iii) and 6.1(b).

Date of Receipt of the Certification Request: June 26, 2025.

Reasonable Period of Time to Act on the Certification Request: One year (June 26, 2026).

If the Utah DWQ fails or refuses to act on the water quality certification request on or before the above date, then the certifying authority is deemed waived pursuant to section 401(a)(1) of the Clean Water Act, 33 U.S.C. 1341(a)(1).

Dated: August 14, 2025.
Debbie-Anne A. Reese,
Secretary.

[FR Doc. 2025-15759 Filed 8-18-25; 8:45 am]

BILLING CODE 6717-01-P